DEPARTMENT OF COMMERCE

National Oceanic and Atmospheric Administration

50 CFR Part 648

[Docket No. 120813331-2562-01]

RIN 0648-XC164

Magnuson-Stevens Act Provisions; Fisheries of the Northeastern United States; Northeast Multispecies Fishery; Proposed Rule To Implement a Targeted Acadian Redfish Fishery for Sector Vessels; Reopening of Comment Period

Correction

Proposed rule document 2012-28820, appearing on pages 70939-70940 in the issue of Wednesday, November 28, 2012, should have appeared in the Proposed Rules section of the issue.

[FR Doc. C1-2012-28820 Filed 12-4-12; 8:45 am]

BILLING CODE 1505-01-D